ENVIRONMENTAL PROTECTION AGENCY

[ER-FRL-6609-4]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of FEDERAL ACTIVITIES AT (202) 564-7167.

An explanation of the ratings assigned to draft environmental impact statements (EISs) was published in FR dated April 14, 2000 (65 FR 20157).

Draft EISs

ERP No. D-AFS-A65168-00 Rating EC2, Forest Service Roadless Area Conservation, Implementation, Proposal to Protect Roadless Areas.

Summary: EPA expressed environmental concerns with the proposed alternative, citing potential adverse impacts to water quality and aquatic habitat. EPA also commented that the draft EIS does not adequately justify excluding the Tongass National Forest from the proposed rulemaking.

ERP No. D-AFS-J61103-MT Rating EC2, Discovery Ski Area Expansion, Implementation, Special-Use-Permit and COE Section 404 Permit, Beaverhead-Deerlodge National Forest, Pintler Ranger District, Rumsey Mountain, Granite County, MT.

Summary: EPA expressed environmental concerns regarding the lack of information to support expansion of the ski area; inadequate analysis and disclosure of indirect effects of induced development; and effects of additional snowmaking and increased wastewater pollutant loadings to area ground water. EPA requested additional information in the final document to assess and mitigate potential environmental impacts of the management actions.

ERP No. D-AFS-K65227-CA Rating EC2, 64-Acre Tract Intermodal Transit Center, Construction and Operation, Lake Tahoe Basin Management Unit, Tahoe City, Placer County, CA.

Summary: EPA expressed environmental concerns regarding water quality impacts and cumulative impacts associated with the proposal. EPA also had concerns because there is no provision for solid waste recycling nor integration of pollution prevention mechanisms in the project.

ERP No. D-NPS-K61149-CA Rating EC2, Yosemite Valley Plan, A Comprehensive Look of at Four Areas of Concern: Resource Preservation and Restoration, Visitor Enjoyment, Transportation, and Employee Housing, from Happy Isles to El Portal Road/Big Oak Flat Road, Merced River, several counties, CA.

Summary: EPA expressed concerns regarding the vehicle emission impacts from the proposed shuttle bus systems. EPA requested more information on the standards and criteria that will be used to select the fuel(s) technology used in the shuttle bus fleets.

ERP No. D-USN-K39059-HI Rating EC2, North Pacific Acoustic Laboratory Project, Reuse of Low Frequency Sound Source and Cable for Use in Acoustic Thermometry of Ocean Climate (ATOC) Research, Kauai, HI.

Summary: EPA expressed environmental concerns regarding potential direct, indirect and cumulative impacts to marine fish specie, turtles, seabirds and marine mammals. EPA recommended an implementing program lasting 24 to 36 months rather than the proposed 60 months, because of uncertainties regarding potential impacts to marine species. EPA also recommended Federal agency coordination to determine if marine mammal monitoring should be expanded to monitor populations of turtles and marine fish.

ERP No. DS-AFS-L65289-00 Rating EC2, Interior Columbia Basin Ecosystem Management Projects, Updated and New Information on three Management Alternatives, Implementation, WA, OR, ID and MT.

Summary: EPA continues to have concern that there is no discussion on how the FS and BLM will address competing objectives and the implications of implementing the preferred alternative with insufficient funding. In addition, there is no oversight process to ensure proper implementation and monitoring of the project. EPA requested that a multi-agency oversight organization be chartered.

Final EISs

ERP No. F-AFS-L65275-00 Targhee National Forest Plan Oil and Gas Leasing Analysis, Implementation, Bonneville, Butte, Clark, Fremont and Madison Counties, ID and Teton County, WY.

Summary: No formal comment letter was sent to the preparing agency.

ERP No. F-BLM-J02038-WY Pinedale Anticline Oil and Gas Exploration and Development Natural Gas Wells Project, Implementation, Sublette County, WY.

Summary: ERP No. F-BLM-K67049-CA Soledad Canyon Sand and Gravel Mining Project, Proposal to Mine, Produce and Sell, “Split Estate” Private Owned and Federally Owned Lands, Transit Mixed Concrete, Los Angeles County, CA.

Summary: EPA concurred with BLM's conformity determination and is satisfied that air quality standards will be protected. EPA expressed continuing concerns that a jurisdictional analysis has not yet been conducted for waters of the U.S., and potential impacts and appropriate mitigation measures remain uncertain.

ERP No. F-IBR-K64018-CA Lower Mokelumne River Restoration Program, Implementation, Resource Management Plan, San Joaquin County, CA.

Summary: EPA has no objection to the action as proposed since EPA's comments on the Draft were adequately addressed. EPA did recommend that the Record of Decision clearly state the specific actions to be taken in response to comments.

ERP No. F-NPS-K65325-CA Merced Wild and Scenic River Comprehensive Management Plan, Implementation, Yosemite National Park and the EL Portal Administrative Site, Tuolumne, Merced, Mono, Mariposa and Madera Counties, CA.

Summary: No formal comment letter was sent to the preparing agency.

ERP No. FS-NOA-A91065-00 Atlantic Tunas, Swordfish and Sharks, Highly Migratory Species Fishery Management Plan.

Summary: EPA concurs with the proposed time/area closures to reduce longline bycatch but recommends resolving the potential adverse effects on protected turtles prior to any issuance of the ROD and Final Rule. Further research under the auspices of NOAA/NMFS should be pursued regarding the effectiveness of the considered longline gear modifications such as use of circle hooks.

Dated: July 18, 2000.
Joseph C. Montgomery,
Director, NEPA Compliance Division,, Office of Federal Activities.

[FR Doc. 00-18551 Filed 7-20-00; 8:45 am]

BILLING CODE 6560-50-P